DEPARTMENT OF HEALTH AND HUMAN SERVICES

Centers for Disease Control and Prevention

[30Day-11-11HD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Study of Comprehensive Cancer Control and Tobacco Control Program Partnerships—New—National Center for Chronic Disease Prevention and Health Promotion, Centers for Disease Control and Prevention (CDC).

Background and Brief Description

Tobacco use remains the leading preventable cause of death in the United States, causing over 443,000 deaths each year and resulting in an annual cost of more than $96 billion in direct medical expenses. Tobacco control is a top priority for two of CDC's programs. The first is the National Tobacco Control Program (NTCP), which is administered by the Office on Smoking and Health. The second is the National Comprehensive Cancer Control Program (NCCCP), which is administered by the Division of Cancer Prevention and Control. Both programs provide funding and technical support for public health programs in states, the District of Columbia, tribes/tribal organizations, and U.S. territories and Pacific Island jurisdictions.

CDC recognizes the need for increased collaboration between Comprehensive Cancer Control (CCC) programs and Tobacco Control Programs (TCP). Toward this end, CDC plans to conduct a study of current partnership efforts involving NCCCP awardees and NTCP awardees. Information will be collected to improve understanding of the ways in which CCCs and TCPs may collaborate to address cancer and tobacco control, and how these programs utilize their respective networks to cross-promote activities. The study will be conducted in seven states that: (1) Are funded through both the NCCCP and the NTCP, and (2) have an established relationship between the two programs.

Respondents for the Study of Comprehensive Cancer Control and Tobacco Control Program Partnerships will be state health department leaders, CCC and TCP staff (e.g., program directors, evaluation specialists, media specialists, quitline coordinators), and other stakeholders, such as coalition members. Information will be collected through in-person interviews involving approximately 15 respondents in each state. Respondents will be asked about key aspects of their program's structure, activities, and collaborative efforts. Each interview will last approximately 45 minutes to one hour. CDC will provide each participating state with guidance and worksheets to prepare for site visits and key informant interviews.

OMB approval will be requested for one year. The information to be collected will be used to develop examples of successful strategies used by selected CCCs and TCPs to cross-collaborate and cross-promote programs/services, and to identify new areas of potential collaboration that may be shared with CDC, other Federal agencies, and other CCC and TCP states for replication. This study is one component of a larger, ARRA-funded effort to compare the effectiveness of traditional evidence-based tobacco cessation interventions to newer and innovative interventions used by CCC programs.

The total estimated annualized burden hours are 113. There are no costs to respondents other than their time.

Estimated Annualized Burden Hours
Type of respondent | Form name | Total number of respondents | Number of responses per respondent | Average burden per response (in hours)
State Health Department Leadership | Interview Guide for Health Department Leadership | 7 | 1 | 45/60
CCC Programs | Site Visit Preparation | 7 | 1 | 45/60
| Interview Guide for CCCs | 49 | 1 | 1
Tobacco Control Programs | Site Visit Preparation | 7 | 1 | 45/60
| Interview Guide for TCPs | 49 | 1 | 1

Dated: August 19, 2011.
Daniel Holcomb,
Reports Clearance Officer, Centers for Disease Control and Prevention.

[FR Doc. 2011-21738 Filed 8-24-11; 8:45 am]

BILLING CODE 4163-18-P